DEPARTMENT OF TRANSPORTATION

Surface Transportation Board

[STB Finance Docket No. 34688]

Carrizo Gorge Railway, Inc.—Trackage Rights Exemption—Union Pacific Railroad Company

Union Pacific Railroad Company (UP) has agreed to grant trackage rights to Carrizo Gorge Railway, Inc. (CZRY) over UP's line of railroad between milepost 129.61 at or near Plaster City, and milepost 140.00 at or near Seeley, a distance of approximately 10.39 miles in Imperial County, CA.

The transaction was scheduled to be consummated on or after April 21, 2005.

The purpose of the trackage rights is to achieve operating economies and to improve rail service by making interchange between CZRY and UP more efficient.

As a condition to this exemption, any employees affected by the trackage rights will be protected by the conditions imposed in Norfolk and Western Ry. Co.—Trackage Rights, BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34688, must be filed with the Surface Transportation Board, 1925 K Street, NW., Washington, DC 20423-0001. In addition, a copy of each pleading must be served on Thomas F. McFarland, 208 South LaSalle Street, Suite 1890, Chicago, IL 60604-1112.

Board decisions and notices are available on our Web site at “www.stb.dot.gov.”

Decided: April 25, 2005.
By the Board, David M. Konschnik, Director, Office of Proceedings.
Vernon A. Williams,
Secretary.

[FR Doc. 05-8667 Filed 4-29-05; 8:45 am]

BILLING CODE 4915-01-P